SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: September 1-30, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(f) for the time period specified above.

Water Source Approval—Issued Under 18 CFR 806.22(f)

1. RENEWAL—Blackhill Energy LLC; Pad ID: HOUSER 1H Pad; ABR-201107018.R2; Burlington Township, Bradford County, Pa.; Consumptive Use of Up to 4.9900 mgd; Approval Date: September 10, 2023.

2. RENEWAL—Repsol Oil & Gas USA, LLC; Pad ID: BUTLER (07 086) J; ABR-201309003.R2; Apolacon Township, Susquehanna County, Pa.; Consumptive Use of Up to 6.0000 mgd; Approval Date: September 10, 2023.

3. RENEWAL—Repsol Oil & Gas USA, LLC; Pad ID: MURPHY (07 075) D; ABR-201309002.R2; Apolacon Township, Susquehanna County, Pa.; Consumptive Use of Up to 6.0000 mgd; Approval Date: September 10, 2023.

4. RENEWAL—Repsol Oil & Gas USA, LLC; Pad ID: OLYMPIC LAKE ESTATES (07 083); ABR-201309005.R2; Apolacon Township, Susquehanna County, Pa.; Consumptive Use of Up to 6.0000 mgd; Approval Date: September 10, 2023.

5. RENEWAL—Repsol Oil & Gas USA, LLC; Pad ID: ROGERS (05 235) H; ABR-201108051.R2; Windham Township, Bradford County, Pa.; Consumptive Use of Up to 6.0000 mgd; Approval Date: September 10, 2023.

6. RENEWAL—Repsol Oil & Gas USA, LLC; Pad ID: SHEA (07 021) D; ABR-201309004.R2; Choconut Township, Susquehanna County, Pa.; Consumptive Use of Up to 6.0000 mgd; Approval Date: September 14, 2023.

7. RENEWAL—SWN Production Company, LLC; Pad ID: GU 04 Williams Aeppli; ABR-201309001.R2; Herrick Township, Bradford County, Pa.; Consumptive Use of Up to 4.9999 mgd; Approval Date: September 14, 2023.

8. RENEWAL—Chesapeake Appalachia, L.L.C.; Pad ID: Lathrop Farm Trust B Drilling Pad; ABR-201309009.R2; Auburn Township, Susquehanna County, Pa.; Consumptive Use of Up to 7.5000 mgd; Approval Date: September 19, 2023.

9. RENEWAL—Chesapeake Appalachia, L.L.C.; Pad ID: Shumhurst2; ABR-201709002.R1; Tuscarora Township, Bradford County, Pa.; Consumptive Use of Up to 7.5000 mgd; Approval Date: September 19, 2023.

10. RENEWAL—Chesapeake Appalachia, L.L.C.; Pad ID: Yencha; ABR-201209012.R2; Monroe Township, Bradford County, Pa.; Consumptive Use of Up to 7.5000 mgd; Approval Date: September 25, 2023.

11. Coterra Energy Inc.; Pad ID: BushnellR P1; ABR-202309001; Springville Township, Susquehanna County, Pa.; Consumptive Use of Up to 5.0000 mgd; Approval Date: September 25, 2023.

12. Coterra Energy Inc.; Pad ID: PalkoJ P1; ABR-202309002; Lathrop Township, Susquehanna County, Pa.; Consumptive Use of Up to 5.0000 mgd; Approval Date: September 25, 2023.

13. RENEWAL—Coterra Energy Inc.; Pad ID: StoddardT P1; ABR-201309012.R2; Lenox Township, Susquehanna County, Pa.; Consumptive Use of Up to 5.0000 mgd; Approval Date: September 25, 2023.

14. RENEWAL—Seneca Resources Company, LLC; Pad ID: Bradford 481; ABR-201309008.R2; Sullivan Township, Tioga County, Pa.; Consumptive Use of Up to 4.0000 mgd; Approval Date: September 25, 2023.

15. RENEWAL—Chesapeake Appalachia, L.L.C.; Pad ID: Blueberry Hill; ABR-201209014.R2; Overton Township, Bradford County, Pa.; Consumptive Use of Up to 7.5000 mgd; Approval Date: September 27, 2023.

16. RENEWAL—Chesapeake Appalachia, L.L.C.; Pad ID: Carr; ABR-201209015.R2; Wilmot Township, Bradford County, Pa.; Consumptive Use of Up to 7.5000 mgd; Approval Date: September 27, 2023.

17. RENEWAL—Seneca Resources Company, LLC; Pad ID: Delaney 651; ABR-201209013.R2; Sullivan Township, Tioga County, Pa.; Consumptive Use of Up to 4.0000 mgd; Approval Date: September 27, 2023.

18. RENEWAL—Chesapeake Appalachia, L.L.C.; Pad ID: Elliott B Drilling Pad #1; ABR-201109030.R2; Monroe Township, Bradford County, Pa.; Consumptive Use of Up to 7.5000 mgd; Approval Date: September 28, 2023.

19. RENEWAL—Coterra Energy Inc.; Pad ID: HeitzenroderA P1; ABR-201109025.R2; Springville Township, Susquehanna County, Pa.; Consumptive Use of Up to 5.0000 mgd; Approval Date: September 28, 2023.

Authority: Public Law 91-575, 84 Stat. 1509 et seq., 18 CFR parts 806 and 808.

Dated: October 10, 2023.
Jason E. Oyler,
General Counsel and Secretary to the Commission.

[FR Doc. 2023-22717 Filed 10-13-23; 8:45 am]

BILLING CODE 7040-01-P